DEPARTMENT OF HEALTH AND HUMAN SERVICES

Health Resources and Services Administration

Advisory Committee; Notice of Meeting

In accordance with section 10(a)(2) of the Federal Advisory Committee Act (Pub. L. 92-463), announcement is made of the following National Advisory body scheduled to meet during the month of March 2002.

The National Advisory Committee on Rural Health will convene its fortieth meeting at the time and place specified below:

Name: National Advisory Committee on Rural Health.

Date and Time: March 3, 2002; 2 p.m.-5 p.m., March 4, 2002; 8:30 a.m.-5 p.m., March 5, 2002; 8:30 a.m.-3 p.m.

Place: Grand Hyatt Capitol Hill, 100 H Street, NW, Washington, DC 20001-4520.

The meeting is open to the public.

Purpose: The National Advisory Committee on Rural Health provides advice and recommendations to the Secretary with respect to the delivery, research, development and administration of health care services in rural areas.

Agenda: Sunday afternoon, March 3, 2002, at 2 p.m. the Chairperson, the Honorable David Beasley, will open the meeting and welcome the Committee. The first session will open with a discussion of the Meeting Agenda and Goals by the Office of Rural Health Policy (ORHP) Director, Dr. Marcia Brand. This will be followed by a discussion of the Committee's role in the Department, administrative business and the Committee's 2002 Agenda.

Monday morning at 8:30 a.m., the session will open with an update by ORHP. After the break, the Committee will discuss and approve the 2001 project, “A Targeted Look at the Rural Safety Net.” After lunch, there will be presentations on two topics relating to the Committee's 2002 workplan.

The final session will be convened on Tuesday, March 5. Beginning at 8:30 a.m. there will be a brief session with the National Rural Health Association's Policy Institute. This will be followed by a session discussing the Committee's strategic plan and future agenda and the selection of a Steering Committee. The strategic planning will continue after lunch. The meeting will conclude with a discussion of the June meeting. The meeting will be adjourned at 3:00 p.m.

Anyone requiring information regarding the subject Committee should contact Marcia K. Brand, Ph.D., Executive Secretary, National Advisory Committee on Rural Health, Health Resources and Services Administration, Room 9A-55, Parklawn Building, 5600 Fishers Lane, Rockville, MD 20857, telephone (301) 443-0835, Fax (301) 443-2803.

Persons interested in attending any portion of the meeting should contact Michele Pray, Office of Rural Health Policy (ORHP), (301) 443-0835. The National Advisory Committee meeting agenda will be posted on ORHP's Web site, http://www.ruralhealth.hrsa.gov.

Dated: January 18, 2002.
Jane M. Harrison,
Director, Division of Policy Review and Coordination.

[FR Doc. 02-1852 Filed 1-24-02; 8:45 am]

BILLING CODE 4165-15-P